DEPARTMENT OF COMMERCE

National Oceanic and Atmospheric Administration

Proposed Information Collection; Comment Request; Southeast Region Permit Family of Forms

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act (PRA) of 1995.

DATES: Written comments must be submitted on or before March 11, 2016.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Adam Bailey, National Marine Fisheries Service (NMFS), Southeast Regional Office (SERO), 263 13th Avenue South, St. Petersburg, FL 33701, (727) 824-5305 or adam.bailey@noaa.gov.

SUPPLEMENTARY INFORMATION:

I. Abstract

This request is for a revision to the existing reporting requirements approved under OMB Control No. 0648-0205, Southeast Region Permit Family of Forms. The SERO Permits Office (Southeast Permits Office) administers Federal fishing permits in the Gulf of Mexico (Gulf), South Atlantic, and Caribbean Sea under the authority of the Magnuson-Stevens Fishery Conservation and Management Act, 16 U.S.C. 1801. The Southeast Permits Office proposes to revise two parts of the collection-of-information approved under OMB Control Number 0648-0205.

Currently, NMFS requires fishermen (respondents) to display one adhesive decal on their vessel indicating that they have a Federal fishing permit in at least one of two Gulf fisheries; the applicable permits are the Charter Vessel/Headboat Permit for Gulf Reef Fish, the Charter Vessel/Headboat Permit for Gulf Coastal Migratory Pelagic fish, and their respective Historical Captain endorsements. NMFS proposes to revise OMB Control Number 0648-0205 to split the single decal covering both fisheries into two decals, with one decal administered with each specific fishery permit or endorsement. In addition, this revision also addresses a new fee of $10 per decal to cover administrative costs, as required by NOAA Finance Handbook, Exhibit 9-1. The Federal Permit Application for Vessels Fishing in the Exclusive Economic Zone would also be revised to reflect the new fee. The decal is currently issued at no cost to permit applicants. These decals allow individuals and law enforcement officials to easily identify vessels that have Federal permits.

NMFS estimates this revision could affect up to 1,331 respondents (applicants), which is the total number of permitted charter and headboat vessels in these limited access fisheries, including the Historical Captain endorsements for each fishery. The maximum number of permits and endorsements at this time is 2,645. Generally, the 1,331 respondents have a set of 2 permits, but it is not required. Each of the two permits or endorsements that a respondent may have can be split up and held by two respondents. Some of these have been split up and that is why there is an odd number of permits, and the number of respondents is not exactly half of the maximum number of permits and endorsements.

Because of the new fee and instructions, NMFS has revised the time burden required to indicate which permit the respondent is renewing or transferring up to 30 seconds. The time burden estimated for this part of the revision is 11.1 hours annually. Although it is not expected, all 1,331 respondents could potentially renew, or transfer or obtain 2 different permits or endorsements, requiring up to 2 decals to be purchased. NMFS estimates the total annual cost at up to $26,450.

The Southeast Permits Office is also proposing to collect additional information on five applications for economic analysis and for purposes of notifying respondents. These data include race, sex, and business type and ownership information, as well as email addresses and the option to provide cellular contact information for digital notifications. The revision will also include a small business certification section, so NMFS can determine if the respondent is a small or large business according to standards established by the Small Business Administration.

These proposed revisions will not change the current cost burden but will increase the annual time burden for respondents. NMFS estimates this revision could affect up to 6,641 respondents across the 5 applications being revised, which includes the 1,331 respondents described above. The time burden estimated for this part of the revision is 925.9 hours annually.

NMFS estimates that the requested revision would add 0 respondents, 6,641 responses, 937 burden hours, and $26,450 in total costs annually to the collection-of-information under OMB Control Number 0648-0205.

II. Method of Collection

Respondents complete applications on paper forms, and then can either mail or bring applications to the Southeast Permits Office. Online application renewals are currently available only for some of the permits included on the Federal Permit Application for Vessels Fishing in the Exclusive Economic Zone. The Southeast Permits Office can mail applications and instructions or they can be downloaded from the Southeast Permits Office Web site at sero.nmfs.noaa.gov/permits. The Southeast Permits Office cannot send or receive applications by fax or email, because applications must have an original signature, which is not possible by fax or email.

III. Data

OMB Control Number: 0648-0205.

Form Number(s): None.

Type of Review: Regular submission (revision of current information collection).

Affected Public: Business or other for-profit organizations.

Estimated Number of Respondents: 6,641.

Estimated Time per Response: Vessel Application, 39 minutes; Dealer Application, 29 minutes; Operator Card, 21 minutes; Wreckfish Application, 21 minutes; Aquaculture Live Rock Application, 21 minutes.

Estimated Total Annual Burden Hours: 7,023.

Estimated Total Annual Cost to Public: $483,828 in recordkeeping or reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 5, 2016.
Sarah Brabson,
NOAA PRA Clearance Officer.

[FR Doc. 2016-00261 Filed 1-8-16; 8:45 am]

BILLING CODE 3510-22-P